DEPARTMENT OF TRANSPORTATION

Federal Railroad Administration

[Docket No. FRA-2010-0005-N-3]

Agency Request for Emergency Processing of Collection of Information Associated With FRA's Positive Train Control Grant Program After Publication of Second Agency Federal Register Notice Concerning Solicitation of Applications for Positive Train Control Grant Funding

AGENCY: Federal Railroad Administration, DOT.

ACTION: Notice.

SUMMARY: The Federal Railroad Administration (FRA) hereby gives notice that it has submitted the following information collection request (ICR) to the Office of Management and Budget (OMB) for Emergency Processing under the Paperwork Reduction Act of 1995 (Pub. L. 104-13, 44 U.S.C. 3501 et seq.). FRA requests that OMB authorize the collection of information identified below on or before March 15, 2010, for 180 days after the date of approval by OMB. A copy of this ICR, with applicable supporting documentation, may be obtained by calling FRA's Clearance Officers, Mr. Robert Brogan (tel. (202) 493-6292) or Ms. Kimberly Toone (tel. (202) 493-6132). These numbers are not toll-free. A copy of this ICR may also be obtained electronically by contacting Mr. Brogan at Robert.Brogan@dot.gov or by contacting Ms. Toone at Kimberly.Toone@dot.gov. Comments and questions about the ICR identified below should be directed to the Office of Information and Regulatory Affairs (OIRA), Attn: FRA OMB Desk Officer, 725 17th St., NW., Washington, DC 20503. Comments and questions about the ICR identified below may also be transmitted electronically to OIRA at oira_submissions@omb.eop.gov.

DATES: Comments should be submitted as soon as possible upon publication of this notice in the Federal Register.

Title: Notice of Funding Availability and Solicitation of Applications for the Positive Train Control (PTC) Grant Program.

OMB Control Number: 2130-New.

Frequency: One-time.

Affected Public: 50 Railroads.

Form(s): SF-269, SF-270, SF-271.

Estimated Total Annual Number of Responses: 250 (Grant Applications and Other Supporting Documents (Paper/Electronic)).

Estimated Total Annual Burden Hours: 13,923 hours.

Abstract: The Rail Safety Technology Program is a newly authorized program under the Rail Safety Improvement Act of 2008 (RSIA) (Pub. L. 110-432; October 16, 2008). The program was directed by Congress and passed into law in the aftermath of a series of major rail accidents that culminated in an accident at Chatsworth, California, in 2008. Twenty-five people were killed and 135 people were injured in the Chatsworth accident. This event turned the Nation's attention to rail safety and the possibility that new technologies, such as PTC, could prevent such accidents in the future. The RSIA ordered installation of PTC by all Class I railroads on any of their mainlines carrying poisonous inhalation hazard (PIH) materials and by all passenger and commuter railroads on their main lines not later than December 31, 2015.

As part of the RSIA, Congress provided $50 million to FRA to award, in one or more grants, to eligible projects by passenger and freight rail carriers, railroad suppliers, and State and local Governments. Funds will be awarded to projects that have a public benefit of improved railroad safety and efficiency, with priority given to projects that make PTC technologies interoperable between railroad systems; projects that accelerate the deployment of PTC technology on high-risk corridors, such as those that have high volumes of hazardous material shipments; and for projects over which commuter or passenger trains operate, or that benefit both passenger and freight safety and efficiency.

Funds provided under this grant program may constitute no more than 80 percent of the total cost of a selected project, with the remaining costs funded from other sources. The funding provided under these grants will be made available to grantees on a reimbursement basis. FRA anticipates awarding grants to multiple eligible participants. FRA may choose to award a grant or grants within the available funds in any amount. Funding made available through grants provided under this program, together with funding from other sources that is committed by a grantee as part of a grant agreement, must be sufficient to complete the funded project and achieve the anticipated technology development. FRA will begin accepting grant applications 10 days after publication of the separate agency notice published in the Federal Register detailing the terms of the PTC Grant Program Funds Availability. Applications may be submitted until the earlier of December 31, 2010, or the date on which all available funds will have been committed under this program.

FRA is applying to OMB for Emergency Clearance of this proposed information collection because of the highly complex technology involved. Reviewing railroad applications and awarding this funding as quickly as possible is essential to meeting FRA's mission and the RSIA PTC implementation deadline of December 15, 2015. FRA cannot reasonably comply with the normal OMB PRA Clearance procedures because of the time needed by FRA to review PTC grant fund applications and resolve technology issues, and because any delay in PTC implementation will cause FRA to miss the congressional statutory deadline. Also, normal OMB PRA Clearance procedures cannot be complied with because any delay of PTC implementation is likely to cause considerable public harm in terms of higher numbers of accidents/incidents and corresponding injuries/fatalities on train lines across the country that did not have the enhanced safety provided by PTC technologies on them as intended by Congress. Upon receiving the requested 6-month Emergency Clearance by OMB, FRA will follow the normal PRA procedures to obtain extended approval for this proposed information collection for the customary 3-year period.

Authority: 44 U.S.C. 3501-3520.

Issued in Washington, DC on February 22, 2010.
Margaret B. Reid,
Associate Administrator, Office of Financial Management, Federal Railroad Administration.

[FR Doc. 2010-3865 Filed 2-24-10; 8:45 am]

BILLING CODE 4910-06-P